DEPARTMENT OF TRANSPORTATION

Federal Aviation Administration

14 CFR Part 39

[Docket No. FAA-2005-20662; Directorate Identifier 2004-NM-191-AD; Amendment 39-14225; AD 2005-17-04]

RIN 2120-AA64

Airworthiness Directives; McDonnell Douglas Model DC-10-10, DC-10-10F, DC-10-15, DC-10-30, DC-10-30F (KC-10A and KDC-10), DC-10-40, DC-10-40F, MD-10-10F, and MD-10-30F Airplanes; and Model MD-11 and MD-11F Airplanes

AGENCY: Federal Aviation Administration (FAA), Department of Transportation (DOT).

ACTION: Final rule.

SUMMARY: The FAA is adopting a new airworthiness directive (AD) for certain McDonnell Douglas airplanes. This AD requires a general visual inspection for damage to the Firex discharge pipes and wye assembly of the fire extinguishing system of the number 2 engine; and corrective and other specified actions, as applicable. This AD results from reports of freezing damage to the Firex discharge pipes and wye assembly of the number 2 engine, and one report of a level 1 ENG FIRE AGENT LO alert during flight. We are issuing this AD to prevent accumulation of water in the discharge pipes and possible consequent freezing damage to the discharge pipes and wye assembly, which could lead to failure of the fire extinguishing system during a fire in the number 2 engine.

DATES: Effective September 26, 2005.

The Director of the Federal Register approved the incorporation by reference of certain publications listed in the AD as of September 26, 2005.

ADDRESSES: You may examine the AD docket on the Internet at http://dms.dot.gov or in person at the Docket Management Facility, U.S. Department of Transportation, 400 Seventh Street SW., Nassif Building, Room PL-401, Washington, DC.

Contact Boeing Commercial Airplanes, Long Beach Division, 3855 Lakewood Boulevard, Long Beach, California 90846, Attention: Data and Service Management, Dept. C1-L5A (D800-0024), for service information identified in this AD.

FOR FURTHER INFORMATION CONTACT: Samuel Lee, Aerospace Engineer, Propulsion Branch, ANM-140L, FAA, Los Angeles Aircraft Certification Office, 3960 Paramount Boulevard, Lakewood, California 90712-4137; telephone (562) 627-5262; fax (562) 627-5210.

SUPPLEMENTARY INFORMATION:

Examining the Docket

You may examine the AD docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain McDonnell Douglas airplanes. That NPRM was published in the Federal Register on March 22, 2005 (70 FR 14432). That NPRM proposed to require a general visual inspection for damage to the Firex discharge pipes and wye assembly of the fire extinguishing system of the number 2 engine; and corrective and other specified actions, as applicable.

Comments

We provided the public the opportunity to participate in the development of this AD. We have considered the comments that have been received on the NPRM.

Explanation of New Relevant Service Information

Since we issued the NPRM, Boeing has released Boeing Alert Service Bulletin DC10-26A065, Revision 1, dated May 20, 2005; and Boeing Alert Service Bulletin MD11-26A060, Revision 1, dated May 10, 2005. We have reviewed the procedures in the revised service bulletins and determined that they are essentially the same as those in the original issues of the service bulletins, with no additional work required. The revised service bulletins show an increase in the cost for required parts. However, we have determined that this increase will not have a significant impact on the cost to operators. Therefore, we have revised paragraphs (c) and (f) in the final rule to specify the revised service bulletins as the primary sources of service information; and revised the “Costs of Compliance” section in the final rule to reflect the increased parts cost. We have also inserted new paragraph (g) in the final rule to give credit for modifications already accomplished using the original issues of the service bulletins and re-identified paragraph (g) of the NPRM as paragraph (h) in the final rule.

Support for the Proposed AD

One commenter supports the intent of the subject NPRM and the proposed actions of the AD.

Request for Extended Compliance Time

One commenter agrees with the intent of the NPRM but requests that we revise the compliance time from 12 months to 18 months. The commenter states that a compliance time of 12 months will force operators to perform required modifications during line maintenance between heavy maintenance check intervals. The commenter states that performing the modifications during heavy maintenance checks in a hangar environment, instead of during line operations, would reduce the chances of modification errors. The commenter states that it has not had any reports of problems with delivery of the Firex agent when the engine fire extinguishing system was activated and asserts that an additional six months added to the compliance time would have no significant impact on safety.

We agree with this request. We have re-evaluated all available reports and have determined that increasing the compliance time by six months will not have any significant impact on safety. Therefore, we have revised the compliance time to 18 months in the final rule.

Explanation of Editorial Change

We discovered a math error in the “Costs of Compliance” section of the NPRM. The total number of U.S.-registered airplanes in the “Inspection Costs” table is shown as 343; it should have been 453. Though changing the number of airplanes from 343 to 453 appears to increase costs for operators, we have determined that no additional burden is imposed on operators because 453 is the number of airplanes actually identified by the service information as referenced in the applicability of this AD. We have revised the “Inspection Costs” table in the final rule to reflect this correction.

Conclusion

We have carefully reviewed the available data, including the comments that have been received, and determined that air safety and the public interest require adopting the AD with the changes described previously. We have determined that these changes will not significantly increase the economic burden on any operator and will not increase the scope of the AD.

Costs of Compliance

There are about 530 airplanes of the affected design in the worldwide fleet. The following tables provide the estimated costs for U.S. operators to comply with this AD. The required actions will be performed at an estimated average labor rate of $65 per work hour.

Inspection Costs for All Airplanes
Action | Work hours | Cost per airplane | Number of U.S.-registered airplanes | Fleet cost
Inspection | 1 | $65 | 453 | $29,445

Replacement Costs for Model MD-11 and MD-11F Airplanes
Action | Work hours | Parts cost | Cost per airplane | Number of U.S.-registered airplanes | Fleet cost
Replace discharge pipe | 2 | $7,386 | $7,516 | 195 | $1,465,620

Replacement Costs For Model DC-10-10, DC-10-10F, DC-10-15, DC-10-30, DC-10-30F (KC-10A and KDC-10), DC-10-40, DC-10-40F, MD-10-10F, and MD-10-30F Airplanes
Group | Action | Work hours | Parts cost | Cost per airplane | Number of U.S.-registered airplanes | Fleet cost
1 | Replace discharge pipe | 2 | $7,386 | $7,516 | 231 | $1,763,196
2 | Replace discharge pipe | 2 | 9,010 | 9,140 | 16 | 146,240
3 | Replace discharge pipe | 2 | 7,386 | 7,516 | 11 | 82,676

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2005-17-04 McDonnell Douglas: Amendment 39-14225. Docket No. FAA-2005-20662; Directorate Identifier 2004-NM-191-AD.

Effective Date

(a) This AD becomes effective September 26, 2005.

Affected ADs

(b) None.

Applicability

(c) This AD applies to McDonnell Douglas Model DC-10-10, DC-10-10F, DC-10-15, DC-10-30, DC-10-30F (KC-10A and KDC-10), DC-10-40, DC-10-40F, MD-10-10F, and MD-10-30F airplanes as identified in Boeing Alert Service Bulletin DC10-26A065, Revision 1, dated May 20, 2005; and Model MD-11 and MD-11F airplanes as identified in Boeing Alert Service Bulletin MD11-26A060, Revision 1, dated May 10, 2005; certificated in any category.

Unsafe Condition

(d) This AD was prompted by reports of freezing damage to the Firex discharge pipes and wye assembly of the number 2 engine, and one report of a level 1 ENG FIRE AGENT LO alert during flight. We are issuing this AD to prevent accumulation of water in the discharge pipes and possible consequent freezing damage to the discharge pipes and wye assembly, which could lead to failure of the fire extinguishing system during a fire in the number 2 engine.

Compliance

(e) You are responsible for having the actions required by this AD performed within the compliance times specified, unless the actions have already been done.

Inspection and Corrective and Other Specified Actions

(f) Within 18 months after the effective date of this AD, perform a general visual inspection for damage to the Firex discharge pipes and wye assembly of the fire extinguishing system of the number 2 engine, and corrective and other specified actions; by doing all the actions specified in the Accomplishment Instructions of Boeing Alert Service Bulletin MD11-26A060, Revision 1, dated May 10, 2005 (for Model M-D11 and MD-11F airplanes); or Boeing Alert Service Bulletin DC10-26A065, Revision 1, dated May 20, 2005 (for Model DC-10-10, DC-10-10F, DC-10-15, DC-10-30, DC-10-30F (KC-10A and KDC-10), DC-10-40, DC-10-40F, MD-10-10F, and MD-10-30F airplanes); as applicable. Do the corrective and other specified actions, as applicable, prior to further flight.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Actions Accomplished Previously

(g) Actions accomplished before the effective date of this AD in accordance with the Accomplishment Instructions of Boeing Alert Service Bulletin MD11-26A060, dated July 20, 2004; or Boeing Alert Service Bulletin DC10-26A065, dated August 19, 2004; as applicable; are acceptable for compliance with the corresponding actions required by this AD.

Alternative Methods of Compliance (AMOCs)

(h) The Manager, Los Angeles Aircraft Certification Office, FAA, has the authority to approve AMOCs for this AD, if requested in accordance with the procedures found in 14 CFR 39.19.

Material Incorporated by Reference

(i) You must use Boeing Alert Service Bulletin DC10-26A065, Revision 1, dated May 20, 2005; or Boeing Alert Service Bulletin MD11-26A060, Revision 1, dated May 10, 2005; as applicable; to perform the actions that are required by this AD, unless the AD specifies otherwise. The Director of the Federal Register approved the incorporation by reference of these documents in accordance with 5 U.S.C. 552(a) and 1 CFR part 51. Contact Boeing Commercial Airplanes, Long Beach Division, 3855 Lakewood Boulevard, Long Beach, California 90846, Attention: Data and Service Management, Dept. C1-L5A (D800-0024), for copies of this service information. You may review copies at the Docket Management Facility, U.S. Department of Transportation, 400 Seventh Street SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on August 10, 2005.
Kalene C. Yanamura,
Acting Manager, Transport Airplane Directorate, Aircraft Certification Service.

[FR Doc. 05-16268 Filed 8-19-05; 8:45 am]

BILLING CODE 4910-13-P